DEPARTMENT OF THE INTERIOR

Fish and Wildlife Service

Receipt of an Application for an Incidental Take Permit for Silvicultural Activities, Williamsburg County, SC

AGENCY: Fish and Wildlife Service, Interior.

ACTION: Notice.

SUMMARY: Mr. Ben McCutcheon (Applicant) has applied for an incidental take permit (ITP) from the Fish and Wildlife Service (Service) pursuant to Section 10(a)(1)(B) of the Endangered Species Act of 1973 (16 U.S.C. 1531 et seq.), as amended. The permit would allow take of one group of red-cockaded woodpecker (Picoides borealis), a federally listed, endangered species, incidental to silvicultural activities on the Applicant's property in Williamsburg County, South Carolina. The Service, on behalf of the Applicant, has developed a Habitat Conservation Plan (HCP), which describes the mitigation measures proposed to address the effects of the Project to the protected species. We have determined that the Applicant's proposal, including the proposed mitigation measures, will individually and cumulatively have a minor or negligible effect on the species covered in the HCP. Therefore, the proposed project is considered a “low-effect” project and would qualify as a categorical exclusion under the National Environmental Policy Act (NEPA). The Service announces the availability of the HCP for the ITP application. Copies of the HCP are available, and your comments are solicited.

DATES: Written comments on the permit application, Determination of Low Effect, and HCP should be sent to the Service's Regional Office (see ADDRESSES) and should be received on or before June 2, 2003.

ADDRESSES: Persons wishing to review the application, HCP, and supporting documentation may obtain a copy by writing the Service's Southeast Regional Office, Atlanta, Georgia, at the address below. Documents will also be available for public inspection by appointment during normal business hours at the Regional Office, 1875 Century Boulevard, Suite 200, Atlanta, Georgia 30345 (Attn: Endangered Species Permits), or Charleston Field Office, 176 Croghan Spur Road, Suite 200, Charleston, South Carolina 29407 (Attn: Phil DeGarmo). Written data or comments concerning the application, HCP, or supporting documents should be submitted to the Regional Office. Requests for the documentation should be in writing. Please reference permit number TE063814-0 in such comments, or in requests of the documents discussed herein.

FOR FURTHER INFORMATION CONTACT: Mr. Aaron Valenta, Regional Permit Coordinator (see ADDRESSES above), telephone: 404/679-4144; or Mr. Phil DeGarmo, Fish and Wildlife Biologist, Charleston Field Office (see ADDRESSES above), telephone 843/727-4707, extension 21.

SUPPLEMENTARY INFORMATION: The red-cockaded woodpecker is a territorial, non-migratory bird species once common in the southern Coastal Plain from east Texas to Florida and north to Maryland, Missouri, and Kentucky. Red-cockaded woodpeckers roost and nest in cavities excavated in large living pine trees 60 years old or older. The red-cockaded woodpecker is a cooperative breeder that lives in family groups of one to nine birds, with each bird nesting in a separate cavity; the aggregate of cavity trees used by a group is called a cluster. Red-cockaded woodpeckers prefer mature longleaf pine forests, but also inhabit loblolly, pond, slash, shortleaf, and Virginia pine stands. Without periodic fire to control hardwoods, red-cockaded woodpeckers abandon clusters as other cavity competitors and predators typical of hardwood habitats move in. The decline of the red-cockaded woodpecker is due primarily to loss of the old-growth, fire-maintained southern pine ecosystem as a result of logging, fire suppression, and conversion to non-forest land uses.

Recovery activities for the red-cockaded woodpecker are focused on Federal lands. Private lands are also important in our recovery strategy to supplement habitat where the Federal land base is insufficient to support recovery, to establish and maintain connectivity with populations on public lands, and to provide a donor source of juvenile red-cockaded woodpeckers for translocation into designated recovery populations. Red-cockaded woodpeckers have generally declined on private lands because of habitat fragmentation, and a lack of active habitat management. We believe that red-cockaded woodpeckers geographically isolated on private lands, as on this site, will eventually cease to exist without management for the species.

The applicant intends to harvest 5 acres of merchantable timber and reforest the project site in loblolly pine, resulting in the take of one group of red-cockaded woodpeckers through harm resulting from habitat alteration. The affected group of red-cockaded woodpeckers is not part of a larger population, with the nearest known group found approximately one-half mile away. Isolated populations of red-cockaded woodpeckers in fragmented habitat limit any contribution to the species' recovery by these individuals. The biological goal of the applicant's HCP is to create a new breeding group of red-cockaded woodpeckers in an area of suitable habitat that will consolidate a stable red-cockaded woodpecker population within the species' historic range. This will be accomplished by establishing two recruitment clusters consisting of at least four artificial cavities at two discrete sites on South Carolina Department of Natural Resources (SCDNR) property. Mitigation will be considered successful when one recruitment cluster is occupied by a potential breeding pair (via natural dispersal of resident birds, including subadults) for at least 6 months, including a breeding season. The National Fish and Wildlife Foundation will provide $10,000 to the Fish and Wildlife Service, who will then contract with a private consultant to complete the required mitigation activities. These activities will consist of conducting the mitigation, minimization, and monitoring required to fulfill all aspects of this HCP. The Clemson Field Office of the Fish and Wildlife Service will fund and supervise the capture and relocation of the existing members of the red-cockaded woodpecker group to a donor site on managed lands.

We believe augmenting or creating a new group of red-cockaded woodpeckers in an area of better habitat would help to consolidate a more stable population. This proposal would offset project impacts while allowing the applicant profitable use of his property. Under Section 9 of the Endangered Species Act (Act), as amended, and its implementing regulations, “taking” of endangered and threatened wildlife is prohibited. However, under limited circumstances, we may issue permits to take such wildlife if the taking is incidental to and not the purpose of otherwise lawful activities. Our regulations for approving such permit requests are contained in Section 10(a)(2)(B) of the Act.

We have determined that the HCP is a low-effect plan that is categorically excluded from further NEPA analysis and, therefore, does not require the preparation of an environmental assessment or environmental impact statement. Low-effect HCPs are those involving: (1) Minor or negligible effects on federally listed or candidate species and their habitats, and (2) minor or negligible effects on other environmental values or resources. The Applicant's HCP qualifies for the following reasons:

1. Approval of the HCP would result in minor or negligible effects on the red-cockaded woodpecker and its habitat. We do not anticipate significant direct or cumulative effects on this species as a result of this project.

2. Approval of the HCP would not have adverse effects on known geographic, historic, or cultural sites, or involve unique or unknown environmental risks.

3. Approval of the HCP would not result in any significant adverse effects on public health or safety.

4. The project does not require compliance with Executive Order 11988 (Floodplain Management), Executive Order 11990 (Protection of Wetlands), or the Fish and Wildlife Coordination Act, nor does it threaten to violate a Federal, State, local, or tribal law or requirement imposed for protection of the environment.

5. Approval of the HCP would not establish a precedent for future action or represent a decision in principle about future actions with potentially significant environmental effects.

We specifically request information, views, and opinions from the public via this Notice on the Federal action. Further, we specifically solicit information regarding the adequacy of the HCP as measured against the Service's ITP issuance criteria found in 50 CFR Parts 13 and 17.

If you wish to comment, you may submit comments by any one of several methods. Please reference permit number TE063814-0 in your comments. You may mail comments to the Service's Regional Office (see ADDRESSES). You may comment via the internet to aaron_valenta@fws.gov. Please submit comments over the internet as an ASCII file, avoiding the use of special characters and any form of encryption. Please also include your name and return address in your e-mail message. If you do not receive a confirmation from the Service that we have received your e-mail message, contact us directly at either telephone number listed above (see FOR FURTHER INFORMATION CONTACT).

Finally, you may hand-deliver comments to either Service office listed above (see ADDRESSES). Our practice is to make comments, including names and home addresses of respondents, available for public review during regular business hours. Individual respondents may request that we withhold their home addresses from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

We will evaluate the HCP and public comments to determine whether the application meets the requirements of Section 10(a) of the Act. We will also evaluate whether the issuance of the ITP complies with Section 7 of the Act by conducting an intra-Service Section 7 consultation to ensure that the ITP will not jeopardize the continued existence of this species. We will use the results of this consultation, in combination with the above findings, to determine if the requirements of the ITP are met and whether or not to issue the ITP.

Dated: April 23, 2003.
J. Mitch King,
Acting Regional Director.

[FR Doc. 03-10725 Filed 4-30-03; 8:45 am]

BILLING CODE 4310-55-P